TENNESSEE VALLEY AUTHORITY

Meeting of the Regional Resource Stewardship Council

AGENCY: Tennessee Valley Authority (TVA).

ACTION: Notice of meeting.

SUMMARY: The Regional Resource Stewardship Council (Regional Council) will hold a meeting to consider various matters. Notice of this meeting is given under the Federal Advisory Committee Act, 5 U.S.C. App. 2, (FACA).

The meeting agenda includes the following/briefings:

1. Feedback from TVA on the Three Recommendations Submitted to the TVA Board of Directors from Council

2. Recommendation/Report on the Roof Issue at Campgrounds and on Rights-of-Way Vegetative Management from the Public Lands Subcommittee

3. Recommendation from the Navigation Subcommittee on Navigation Responsibilities and Issues on the Tennessee River System

4. Three Recommendation from the Water Quality Subcommittee on TVA's Monitoring and Water Quality Improvement Programs

5. Public comments

6. Discussion of the Recommendations

7. Planning for Future Meetings

It is the Regional Council's practice to provide an opportunity for members of the public to make oral public comments at its meetings. Public comment session is scheduled from 1:00—2:00 p.m. Central time. Members of the public who wish to make oral public comments may do so during the Public comment portion of the agenda. Up to one hour will be allotted for the Public comments with participation available on a first-come, first-served basis. Speakers addressing the Council are requested to limit their remarks to no more than 5 minutes. Persons wishing to speak register at the door and are then called on by the Council Chair during the public comment period. Handout materials should be limited to one printed page. Written comments are also invited and may be mailed to the Regional Resource Stewardship Council, Tennessee Valley Authority, 400 West Summit Hill Drive, WT 11A, Knoxville, Tennessee 37902.

DATES: The meeting will be held on Wednesday, August 29, from 8 a.m. to 4:30 p.m. Central time.

ADDRESSES: The meeting will be held in Guntersville, Alabama, at Lake Guntersville State Park, located at 1155 Lodge Drive, Guntersville, Alabama 35976, and will be open to the public. Anyone needing special access or accommodations should let the contact below know at least a week in advance.

FOR FURTHER INFORMATION CONTACT: Sandra L Hill, 400 West Summit Hill Drive, WT 11A, Knoxville, Tennessee 37902, (865) 632-2333.

Dated: July 31, 2001.
Kathryn J. Jackson,
Executive Vice President, River System Operations & Environment, Tennessee Valley Authority.

[FR Doc. 01-19557 Filed 8-3-01; 8:45 am]

BILLING CODE 8120-08-P